FEDERAL TRADE COMMISSION

16 CFR Ch. I

Notice of Intent to Request Public Comments

AGENCY: Federal Trade Commission.

ACTION: Notice of intent to request public comments.

SUMMARY: As part of its ongoing systematic review of all Federal Trade Commission rules and guides, the Commission gives notice that, during 2008, it intends to request public comments on the rules and guide listed below. The Commission will request comments on, among other things, the economic impact of, and the continuing need for, the rules and guide; possible conflict between the rules and guide and state, local, or other federal laws or regulations; and the effect on the rules and guide of any technological, economic, or other industry changes. No Commission determination on the need for, or the substance of, the rules and guide should be inferred from the notice of intent to publish requests for comments. In addition, the Commission announces a revised 10-year regulatory review schedule.

FOR FURTHER INFORMATION CONTACT: Further details may be obtained from the contact person listed for the particular rule or guide.

SUPPLEMENTARY INFORMATION: The Commission intends to initiate a review of and solicit public comments on the following rules and guide during 2008:

(1) Guides for the Use of Environmental Marketing Claims, 16 CFR 260. Agency Contact: Janice Podoll Frankle, (202) 326-3022, Federal Trade Commission, Bureau of Consumer Protection, Division of Enforcement, 600 Pennsylvania Ave., NW, Washington, DC 20580.

(2) Rule Concerning Cooling-Off Period for Sales Made at Homes or at Certain Other Locations, 16 CFR 429. Agency Contact: Barbara Bolton, (404) 656-1362, Federal Trade Commission, Southeast Region, 225 Peachtree Street, NE, Suite 1500, Atlanta, GA 30303.

(3) Power Output Claims for Amplifiers Utilized in Home Entertainment Products, 16 CFR 432. Agency Contact: Jock Chung, (202) 326-2984, Federal Trade Commission, Bureau of Consumer Protection, Division of Enforcement, 600 Pennsylvania Ave., NW, Washington, DC 20580.

As part of its ongoing program to review all current Commission rules and guides, the Commission also has tentatively scheduled reviews of additional rules and guides for 2009 through 2018. A copy of this tentative schedule is appended. The Commission, in its discretion, may modify or reorder the schedule in the future to incorporate new rules, or to respond to external factors (such as changes in the law) or other considerations.

Authority: 15 U.S.C. 41-58.

By direction of the Commission.

Donald S. Clark,
Secretary.

APPENDIX
REGULATORY REVIEW
MODIFIED TEN-YEAR SCHEDULE
16 CFR PART | TOPIC | YEAR TO REVIEW
254 | Guides for Private Vocational and Distance Education Schools | 2009
300 | Rules and Regulations under the Wool Products Labeling Act | 2009
301 | Rules and Regulations under the Fur Products Labeling Act | 2009
303 | Rules and Regulations under the Textile Fiber Products Identification Act | 2009
306 | Automotive Fuel Ratings, Certification and Posting Rule | 2009
425 | Rule Concerning the Use of Negative Option Plans | 2009
500 | Regulations Under Section 4 of the Fair Packaging and Labeling Act (FPLA) | 2010
501 | Exemptions from Part 500 of the FPLA | 2010
502 | Regulations Under Section 5(C) of the FPLA | 2010
503 | Statements of General Policy or Interpretations Under the FPLA | 2010
424 | Retail Food Store Advertising and Marketing Practices Rule | 2010
444 | Credit Practices Rule | 2010
239 | Guides for the Advertising of Warranties and Guarantees | 2010
433 | Preservation of Consumers’ Claims and Defenses Rule | 2010
700 | Interpretations of Magnuson-Moss Warranty Act | 2010
701 | Disclosure of Written Consumer Product Warranty Terms and Conditions | 2010
702 | Pre-sale Availability of Written Warranty Terms | 2010
703 | Informal Dispute Settlement Procedures | 2010
14 | Administrative Interpretations, General Policy Statements, and Enforcement Policy Statements | 2011
23 | Guides for the Jewelry, Precious Metals, and Pewter Industries | 2011
423 | Care Labeling Rule | 2011
20 | Guides for the Rebuilt, Reconditioned and Other Used Automobile Parts Industry | 2012
233 | Guides Against Deceptive Pricing | 2012
238 | Guides Against Bait Advertising | 2012
240 | Guides for Advertising Allowances and Other Merchandising Payments and Services | 2012
251 | Guide Concerning Use of the Word “Free” and Similar Representations | 2012
310 | Telemarketing Sales Rule | 2013
801 | Hart-Scott-Rodino Antitrust Improvements Act Coverage Rules | 2013
802 | Hart-Scott-Rodino Antitrust Improvements Act Exemption Rules | 2013
803 | Hart-Scott-Rodino Antitrust Improvements Act Transmittal Rules | 2013
304 | Rules and Regulations under the Hobby Protection Act | 2014
309 | Labeling Requirements for Alternative Fuels and Alternative Fueled Vehicles | 2014
314 | Standards for Safeguarding Customer Information | 2014
315 | Contact Lens Rule | 2015
316 | Rules Implementing the CAN-SPAM Act of 2003 | 2015
456 | Ophthalmic Practice Rules | 2015
603 | Fair Credit Reporting Act (FCRA) Rules - Definitions | 2015
610 | FCRA Rules - Free Annual File Disclosures | 2015
611 | FCRA Rules - Prohibition Against Circumventing Treatment as a Nationwide Consumer Reporting Agency | 2015
613 | FCRA Rules - Duration of Active Duty Alerts | 2015
614 | FCRA Rules - Appropriate Proof of Identity | 2015
698 | FCRA Rules - Summaries, Notices, and Forms | 2015
460 | Labeling and Advertising of Home Insulation | 2016
682 | FCRA Rules - Disposal of Consumer Report Information and Records | 2016
410 | Deceptive Advertising as to Sizes of Viewable Pictures Shown by Television Receiving Sets | 2017
312 | Children’s Online Privacy Protection Rule | 2017
18 | Guides for the Nursery Industry | 2018
305 | Appliance Labeling Rule | 2018
311 | Test Procedures and Labeling Standards for Recycled Oil | 2018
436 | Disclosure Requirements and Prohibitions Concerning Franchising | 2018

[FR Doc. E8-4195 Filed 3-4-08: 8:45 am]

BILLING CODE: 6750-01-S